FEDERAL COMMUNICATIONS COMMISSION

Sunshine Act Meeting; Open Commission Meeting; Thursday, February 20, 2014

Date: February 12, 2014.

The Federal Communications Commission will hold an Open Meeting on the subjects listed below on Thursday, February 20, 2014. The meeting is scheduled to commence at 10:30 a.m. in Room TW-C305, at 445 12th Street SW., Washington, DC. The Commission is waiving the sunshine period prohibition contained in Section 1.1203 of the Commission's rules, 47 CFR 1.1203, until 11:59 p.m. on Tuesday, February 18, 2014. Thus, presentations with respect to the items listed below will be permitted until that time.

Item No. | Bureau | Subject
1 | CONSUMER & GOVERNMENTAL AFFAIRS AND MEDIA | TITLE: Closed Captioning of Video Programming (CG Docket No. 05-231); Telecommunications for the Deaf and Hard of Hearing, Inc. Petition for Rulemaking. SUMMARY: The Commission will consider a Report and Order, Declaratory Ruling, and Further Notice of Proposed Rulemaking that addresses the quality and technical compliance of closed captioning on television programming to ensure that video programming is fully accessible to individuals who are deaf and hard of hearing.
2 | PUBLIC SAFETY AND HOMELAND SECURITY | TITLE: Wireless E911 Location Accuracy Requirements (PS Docket No. 07-114). SUMMARY: The Commission will consider a Third Notice of Proposed Rulemaking to ensure that accurate caller location information is automatically provided to public safety officials for all wireless calls to 911, including indoor calls, to meet consumer and public safety needs and expectations, and to take advantage of new technological developments.

* * * * *

Consent Agenda

The Commission will consider the following subjects listed below as a consent agenda and these items will not be presented individually:

Item No. | Bureau | Subject
1 | MEDIA | TITLE: Golden Gulf Coast Broadcasting, Inc., Assignor and Capstar TX Limited Partnership, Assignee, Applications for Assignment and Renewal of License of WQYZ(FM), Ocean Springs, Mississippi. SUMMARY: The Commission will consider a Memorandum Opinion and Order concerning an Application for Review filed by WJZD, Inc. seeking review of a decision by the Media Bureau.
2 | MEDIA | TITLE: Jet Fuel Broadcasting Application for a New AM Broadcast Station at Orchard Homes, MT and Bott Communications, Inc. Application for a New AM Broadcast Station at Black Hawk, South Dakota. SUMMARY: The Commission will consider a Memorandum Opinion and Order concerning an Application for Review filed by Jet Fuel Broadcasting seeking review of a decision by the Media Bureau.
3 | MEDIA | TITLE: Jet Fuel Broadcasting Application for a New AM Broadcast Station at Lolo, MT and RAMS III Application for a New AM Broadcast Station at Springville, Utah. SUMMARY: The Commission will consider a Memorandum Opinion and Order concerning an Application for Review filed by Jet Fuel Broadcasting seeking review of a decision by the Media Bureau.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Gloria J. Miles,
Federal Register Liaison, Office of the Secretary, Office of Managing Director.

[FR Doc. 2014-03753 Filed 2-19-14; 11:15 am]

BILLING CODE 6712-01-P